DEPARTMENT OF HEALTH AND HUMAN SERVICES

Centers for Disease Control and Prevention

Disease, Disability, and Injury Prevention and Control Special Emphasis Panel (SEP): Health Promotion and Disease Prevention Research Centers Cooperative Agreements, Program Announcement Number 04003

In accordance with section 10(a)(2) of the Federal Advisory Committee Act (Pub. L. 92-463), the Centers for Disease Control and Prevention (CDC) announces the following meeting:

Name: Disease, Disability, and Injury Prevention and Control Special Emphasis Panel (SEP): Health Promotion and Disease Prevention Research Centers Cooperative Agreements, Program Announcement Number 04003.

Times and Dates: 8:30 a.m.-9 a.m., March 30, 2004 (open); 9 a.m.-5 p.m., March 30, 2004 (closed); 9 a.m.-5 p.m., March 31, 2004 (closed).

Place: Sheraton Colony Square Hotel, 188 14th Street, NE., Atlanta, GA 30361, telephone 404.892.2004.

Status: Portions of the meeting will be closed to the public in accordance with provisions set forth in section 552b(c) (4) and (6), title 5 U.S.C., and the Determination of the Director, Management Analysis and Services Office, CDC, pursuant to Public Law 92-463.

Matters to be Discussed: The meeting will include the review, discussion, and evaluation of applications received in response to Program Announcement Number 04003.

Contact Person for More Information: Michael N. Waller, Deputy Director, National Center for Chronic Disease Prevention and Health Promotion, CDC, 4770 Buford Highway, NE., MS-K 45, Atlanta, GA 30341, telephone 770.488.5269.

The Director, Management Analysis and Services Office, has been delegated the authority to sign Federal Register notices pertaining to announcements of meetings and other committee management activities, for both CDC and the Agency for Toxic Substances and Disease Registry.

Dated: February 24, 2004.
Alvin Hall,
Director, Management Analysis and Services Office, Centers for Disease Control and Prevention.

[FR Doc. 04-4680 Filed 3-2-04; 8:45 am]

BILLING CODE 4163-18-P